CORPORATION FOR NATIONAL AND COMMUNITY SERVICE

Information Collection; Submission for OMB Emergency Review

AGENCY: Corporation for National and Community Service.

ACTION: Notice.

SUMMARY: The Corporation for National and Community Service (hereinafter the “Corporation”), has submitted an information collection request (ICR) consisting of four instruments entitled Request to Transfer a Segal Education Award Amount Form, Accept/Decline Award Transfer Form, Request to Revoke Transfer of Education Award Form, and Rescind Acceptance of Award Transfer Form to the Office of Management and Budget (OMB) for review and clearance in accordance with the Paperwork Reduction Act of 1995, (PRA 95) (44 U.S.C. Chapter 35). The Corporation requests that OMB review and approve its emergency request by October 26, 2010 for a period of six months. A copy of this ICR, with applicable supporting documentation, may be obtained by contacting the Corporation for National and Community Service, Bruce Kellogg, (202) 606-6954, or by e-mail at bkellogg@cns.gov. Individuals who use a telecommunications device for the deaf (TTY/TDD) may call (202) 606-3472 between the hours of 9 a.m. and 4:30 p.m. Eastern time, Monday through Friday.

Since the Corporation requested OMB's approval of this emergency request in October there will not be enough time for the public to provide comments through this Federal Register Notice before the approval date requested. Therefore, there will be no comment period for this request.

FOR FURTHER INFORMATION CONTACT: Bruce Kellogg, (202) 606-6954 or e-mail to bkellogg@cns.gov.

SUPPLEMENTARY INFORMATION: Description: On April 21, 2009, President Obama signed into law the Edward M Kennedy Serve America Act, Public Law 111-13 (“The Serve America Act”). The Serve America Act reauthorizes and expands national service programs administered by the Corporation for National & Community Service (“the Corporation”) by amending the National & Community Service Act of 1990 and the Domestic Volunteer Service Act of 1973. The Corporation published a final rule to implement changes to the operation of the National Service Trust under the Serve America Act on August 20, 2010.

This new information collection request implements provisions of the Serve America Act (42 U.S.C. 12501), which authorize AmeriCorps members to transfer all or a part of an education award, with limitations on who can transfer an award and who can receive the transferred award.

We are therefore submitting the enclosed request under 5 CFR 1320.13 to OMB for emergency processing and approval of information collection activities.

This submission includes four documents entitled Request to Transfer a Segal Education Award Amount Form, Accept/Decline Award Transfer Form, Request to Revoke Transfer of Education Award Form, and Rescind Acceptance of Award Transfer Form.

Type of Review: Emergency request.

Agency: Corporation for National and Community Service.

Title: Request to Transfer a Segal Education Award Amount Form, Accept/Decline Award Transfer Form, Request to Revoke Transfer of Education Award Form, and Rescind Acceptance of Award Transfer Form.

OMB Number: None.

Agency Number: None.

Affected Public: Qualifying AmeriCorps members and education award transfer recipients.

Total Respondents: 100.

Frequency: Annual.

Average Time per Response: 5 minutes for each form.

Estimated Total Burden Hours: 32 hours.

Total Burden Cost (capital/startup): None.

Total Burden Cost (operating/maintenance): None.

Dated: October 19, 2010.
William Anderson,
Chief Financial Officer.

[FR Doc. 2010-26799 Filed 10-22-10; 8:45 am]

BILLING CODE 6050-$$-P